DEPARTMENT OF HOMELAND SECURITY

Federal Emergency Management Agency

[Docket ID FEMA-2008-0010]

National Fire Academy Board of Visitors

AGENCY: Federal Emergency Management Agency, DHS.

ACTION: Committee Management; Notice of Open Federal Advisory Committee Meeting.

SUMMARY: The National Fire Academy Board of Visitors will meet on April 6-7, 2011. The meeting will be open to the public.

DATES: The meeting will take place Wednesday, April 6, 2011, from 8:30 a.m. to 5 p.m., EST; and Thursday, April 7, 2011, 8:30 a.m. to 1 p.m., EST. Please note that the meeting may end early if all business is completed.

ADDRESSES: The meeting will be held at the National Emergency Training Center, Building H, Room 300, Emmitsburg, Maryland. The public may contact Ruth MacPhail at (301) 447-1117 for details on how to gain access to the facility.

For information on facilities or services for individuals with disabilities or to request special assistance at the meeting, please contact Ruth MacPhail as soon as possible.

To facilitate public participation, we are inviting public comment on the issues to be considered by the committee as listed in the SUMMARY section below. Comments must be submitted in writing no later than April 5, 2010, and must be identified by FEMA-2008-0010 and may be submitted by one of the following methods:

• Federal eRulemaking Portal: http://www.regulations.gov. Follow the instructions for submitting comments.

• E-mail: FEMA-RULES@dhs.gov. Include the docket ID in the subject line of the message.

• Fax: 703-483-2999.

• Mail: Ruth MacPhail, 16825 South Seton Avenue, Emmitsburg, Maryland 21727.

Instructions: All submissions received must include the docket ID for this action. Comments received will be posted without alteration at http://www.regulations.gov, including any personal information provided.

Docket: For access to the docket to read background documents or comments received by the National Fire Academy Board of Visitors, go to http://www.regulations.gov.

A public comment period will be held during the meeting on April 6, 2011, from 3 p.m. to 3:30 p.m. Each person will be afforded 5 minutes to make comments. Please note that the public comment period may end before the time indicated, following the last call for comments. Contact the individual listed below to register as a speaker.

FOR FURTHER INFORMATION CONTACT: Ruth MacPhail, 16825 South Seton Avenue, Emmitsburg, Maryland 21727, telephone (301) 447-1117, fax (301) 447-1173, and e-mail ruth.macphail@dhs.gov.

SUPPLEMENTARY INFORMATION: Notice of this meeting is given under the Federal Advisory Committee Act, 5 U.S.C. App. (Pub. L. 92-463). The purpose of the Board of Visitors for the National Fire Academy is to review annually the programs of the Academy and advise the Administrator, Federal Emergency Management Agency (FEMA), through the United States Fire Administrator, regarding the operation of the Academy and any improvements therein that the Board deems appropriate. The Board shall make interim advisories to the Administrator, FEMA, through the United States Fire Administrator, whenever there is an indicated urgency to do so in fulfilling its duties. In carrying out its responsibilities, the Board shall include in its review an examination of Academy programs to determine whether these programs further the basic missions which are approved by the Administrator, FEMA; an examination of the physical plant of the Academy to determine the adequacy of the Academy facilities; and, an examination of the funding levels for the Academy programs. The Board shall submit its annual report through the United States Fire Administrator to the Administrator, FEMA, in writing. The report shall provide detailed comments and recommendations regarding the operation of the Academy. The Board shall submit interim reports through the United States Fire Administrator to the Administrator, FEMA, whenever there is an indicated need to do so in the fulfillment of its duties.

The National Fire Academy Board of Visitors will hold a meeting to review National Fire Academy Program activities, including a new template for the NFA student manual, and to receive updates on the Harvard Fellowship application, mobile learning applications, curriculum management system, and NFA course pilot of the new residential sprinkler policy course, new courses under design and courses under revision, NFA course pilot of the new residential sprinkler policy course, Applicant Outreach Subcommittee will discuss current and future approaches to recruitment of students from women and minority firefighter communities, FESHE/Professional Development Subcommittee will report on progress on efforts to coalesce traditional training and higher education programs and articulation, TRADE Review Subcommittee will report on current and future approaches to state and metro fire service training and how NFA can assist. The committee will discuss the status of Subcommittees, NFA vacant position updates, National Professional Development Model and Matrix revision update, launch of Fire and Emergency Services Higher Education Recognition and Certificate Program, roll-out of “webmaster” project, NFA online course update, preparation of the NFA BOV FY 2010 Annual Report, the status of deferred maintenance and capital improvements on the NETC campus, to include FY 2011 Budget Request/FY 2012 Budget Planning, National Fire Program developments in data collection, public education and firefighter deployment initiatives, as well as a public comment period. The Board of Visitors will review and consider reports from the subcommittees. After consideration, the Board of Visitors will recommend action to the Superintendent and Administrator. This meeting is open to the public.

Dated: March 22, 2011.
Kirby E. Kiefer,
Acting Superintendent, National Fire Academy, United States Fire Administration, Federal Emergency Management Agency.

[FR Doc. 2011-7269 Filed 3-28-11; 8:45 am]

BILLING CODE 9111-45-P